DEPARTMENT OF ENERGY

Federal Energy Regulatory Commission

Notice of Institution of Section 206 Proceeding and Refund Effective Date

| Docket No.
AEP Appalachian Transmission Company, Inc | EL18-62-000
AEP Indiana Michigan Transmission Company, Inc |
AEP Kentucky Transmission Company, Inc |
AEP Ohio Transmission Company, Inc |
AEP West Virginia Transmission Company, Inc |
AEP Oklahoma Transmission Company, Inc | EL18-63-000
AEP Southwestern Transmission Company, Inc |
Baltimore Gas and Electric Company | EL18-64-000
Black Hills Power, Inc | EL18-65-000
Citizens Sunrise Transmission LLC | EL18-66-000
San Diego Gas & Electric Company | EL18-67-000
Transource Maryland, LLC | EL18-68-000
Transource Pennsylvania, LLC | EL18-69-000
Transource West Virginia, LLC | EL18-70-000
UNS Electric, Inc | EL18-71-000, (not consolidated)

On March 15, 2018, the Commission issued an order in Docket Nos. EL18-62-000, EL18-63-000, EL18-64-000, EL18-65-000, EL18-66-000, EL18-67-000, EL18-68-000, EL18-69-000, EL18-70-000, and EL18-71-000 pursuant to section 206 of the Federal Power Act (FPA), 16 U.S.C. 824e (2012), instituting an investigation into the justness and reasonableness of each of the above-captioned public utilities' transmission formula rates under its open access transmission tariff or transmission owner tariff on file with the Commission. AEP Appalachian Transmission Company, Inc., et al., 162 FERC 61,225 (2018).

The refund effective date in Docket Nos. EL18-62-000, EL18-63-000, EL18-64-000, EL18-65-000, EL18-66-000, EL18-67-000, EL18-68-000, EL18-69-000, EL18-70-000, and EL18-71-000, established pursuant to section 206(b) of the FPA, will be the date of publication of this notice in the Federal Register.

Any interested person desiring to be heard in Docket Nos. EL18-62-000, EL18-63-000, EL18-64-000, EL18-65-000, EL18-66-000, EL18-67-000, EL18-68-000, EL18-69-000, EL18-70-000, and EL18-71-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: March 15, 2018.
Nathaniel J. Davis, Sr.,
Deputy Secretary.

[FR Doc. 2018-05674 Filed 3-20-18; 8:45 am]

BILLING CODE 6717-01-P